DEPARTMENT OF COMMERCE

Census Bureau

Proposed Information Collection; Comment Request; Government Employment Forms

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration written comments must be submitted on or before November 13, 2007.

ADDRESSES: Direct all written comments to Diana Hynek, Departmental Paperwork Clearance Officer, Department of Commerce, Room 6625, 14th and Constitution Avenue, NW., Washington, DC 20230 (or via the Internet at dynek@doc.gov).

FOR FURTHER INFORMATION CONTACT: Requests for additional information or copies of the information collection instrument(s) and instructions should be directed to Ellen Thompson, Chief, Employment Branch, Governments Division, U.S. Census Bureau, Washington, DC 20233-6800 (301-763-1531) (or via the Internet at ellen.ann.thompson@census.gov).

SUPPLEMENTARY INFORMATION

I. Abstract

The Census Bureau plans to request clearance for the forms necessary to conduct the public employment program which consists of an annual collection of information and a quinquennial collection in a census environment in years ending in “2” or “7.” During the upcoming two years, Census plans to conduct the 2008 and 2009 Annual Survey of Government Employment.

Under Title 13, Section 161, of the United States Code, the Secretary of Commerce is authorized to conduct the public employment program, which collects and disseminates data by function for full-time and part-time employees, payroll, and number of part-time hours worked. The number and content of the data items collected are the same in the annual and census cycles.

The burden hours requested are based on the expected 2008 annual survey mail out of 18,160 forms.

The state and local government statistics produced, covered national, state, and local aggregates on various functions with comparative detail for individual governments for the pay period that includes March 12. The public employment program provides the only comprehensive count of employees and payrolls in state and local governments. Government employees constitute approximately one-sixth of the entire U.S. workforce and their salaries are a major source of personal income.

The Census Bureau provides this employment data to the Bureau of Economic Analysis for constructing the functional payrolls in the public sector Gross Domestic Product, payroll being the single largest component of current operations. Other government users include the Bureau of Labor Statistics, as a benchmark for its monthly employment programs, and the Department of Housing and Urban Development, to establish payroll guidelines for local public housing authorities.

The public employment program has increasingly been used as the base for reimbursable programs of other Federal agencies such as: (1) The government portion of the Medical Expenditure Panel Survey commissioned by the Agency for Healthcare Research and Quality to provide timely, comprehensive information about health care use and costs in the United States, and (2) The Bureau of Justice Statistics (BJS) survey Criminal Justice Expenditure and Employment Survey which provides criminal justice expenditure and employment data on spending and personnel levels.

Statistics are produced as data files in both electronic and printed formats. The program has made possible the dissemination of comprehensive and comparable governmental statistics since 1940.

The many users of the public employment program data include Federal agencies, state and local governments and related organizations, public interest groups, and many business, market, and private research organizations.

II. Method of Collection

Approximately 18,160 state agencies, county governments, consolidated city-county governments, independent cities, towns, townships, special district governments, and public school systems designated for the annual survey will be sent an appropriate form or the data will be collected through a data sharing arrangement between the Census Bureau and the state government.

We developed cooperative agreements with state and large local government officials to collect the data from their dependent agencies and report to Census as one central respondent. These arrangements reduce the need for a mail canvass of approximately 3,413 state agencies and 740 school systems. Currently we have central collection agreements with 43 states, five local school district governments, and nine local governments. We continue to work at expanding the conversion of paper submissions into electronic formats, for both individual units and central collection units. Since the 2003 annual collection cycle, all form types can be completed on the Internet. For the 2007 Census, 18,708 governments responded using the Web site.

III. Data

OMB Number: 0607-0452.

Form Number: E-1, E-2, E-3, E-4, E-5, E-6, E-7, E-9.

Type of Review: Regular submission.

Affected Public: State governments, county governments, consolidated city-county governments, independent cities, towns, townships, special district governments, and public school systems.

Estimated Number of Respondents: 18,160.

Estimated Time Per Response: 49 minutes.

Estimated Total Annual Burden Hours: 14,733.

Estimated Total Annual Cost: $324,347.

Respondent's Obligation: Voluntary.

Legal Authority: Title 13 United States Code, Section 161.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 6, 2007.
Gwellnar Banks,
Management Analyst, Office of the Chief Information Officer.

[FR Doc. E7-17919 Filed 9-11-07; 8:45 am]

BILLING CODE 3510-07-P